FEDERAL MEDIATION AND CONCILIATION SERVICE

29 CFR Part 1404

RIN 3076AA09

Arbitration Schedule of Fees

AGENCY: Federal Mediation and Conciliation Service.

ACTION: Proposed rule.

SUMMARY: The Federal Mediation and Conciliation Service is proposing to revise the Appendix to 29 CFR Part 1404 to replace the fee schedule item for processing requests for panels of arbitrators with two new fee schedule categories—one for processing requests on-line and the other for requests which require processing by FMCS staff. In addition, FMCS proposes to increase the rates for requests which require staff processing and for requests for lists and biographic sketches of arbitrators.

DATES: Written comments must be submitted to the office listed in the addresses section below on or before January 24, 2003.

ADDRESSES: Send comments to Vella M. Traynham, Director of Arbitration Services, FMCS, 2100 K Street, NW., Washington, DC 20427 or by fax to (202) 606-3749. See SUPPLEMENTARY INFORMATION for other information concerning comments.

Submit copies of electronic comments to vtraynham@fmcs.gov. See SUPPLEMENTARY INFORMATION for other information concerning electronic filing.

FOR FURTHER INFORAMTION CONTACT: Vella M. Traynham, Director of Arbitration Services, FMCS, 2100 K Street, NW., Washington, DC 20427. Telephone, (202) 606-5111; Fax (202) 606-3749.

SUPPLEMENTARY INFORMATION: In this rulemaking, FMCS proposes to amend its regulations in the Appendix to 29 CFR part 1404 by replacing the general category on the fee schedule for requests for panels with two new categories, one for processing electronic requests for panels and the other for requests which require processing by FMCS staff.

Pursuant to 29 U.S.C. 171(b) and 29 CFR part 1404, FMCS offers panels of arbitrators for selection by labor and management to resolve grievances and disagreements arising under their collective bargaining agreements and to deal with fact finding and interest arbitration issues as well. On October 1, 1997, the Office of Arbitration Services (OAS) began charging a nominal fee for all requests for panels, lists and other major services. FMCS now proposes to amend the Appendix to 29 CFR part 1404 by adding a new category on the fee schedule for electronic requests and to increase the fees in other categories to take into account increases in the costs of processing the requests.

In May 2000, the OAS developed its electronic system to issue panels of arbitrators. Since the inception of the on-line system, nearly 500 labor and/or management representatives have utilized this on-line system, thereby reducing the time period for them to receive panels of arbitrators. The on-line system permits the parties to receive panels almost instantly—by fax, e-mail or mail. Ninety percent of all electronic requests are either faxed or e-mailed to the parties.

To encourage the use of electronic processing and receipt of panels, OAS is adding an entry on its fee schedule for on-line processing of panel requests. The on-line processing category will maintain the costs for this service at the fee of $30.00—the amount currently in effect for all requests for panels of arbitrators—since the costs for electronic processing have not significantly increased.

The proposed revision to the arbitration fee schedule in the Appendix to 29 CFR part 1404 would create another category for requests that have to be processed by FMCS staff. FMCS proposes to increase the fees in this category from the current $30.00 to $50.00 for each panel. The increase in cost is based on several factors. The complexity of the requests received and processed by the staff in OAS has increased greatly. Parties are requesting more than the standard seven names on a panel, and they are requesting multiple panels with up to 15 names on each panel that require manual exclusions, based on a collective bargaining agreement. As a result, the staff time to process these requests has increased, as well as the cost to mail the panels. In addition, several increases in postage have occurred since the agency began charging for panels in October 1997.

Finally, FMCS proposes to revise the Appendix to 29 CFR part 1404 by increasing the cost for lists and biographical sketches of arbitrators in specific areas from $10.00 per request plus $.10 per page to $25.00 per request and $.25 per page. All other fees in the Appendix would remain the same.

Access to Information in Comments

Information submitted as a comment concerning this document may be claimed confidential by marking any part or all of the information as “CBI.” Information so marked will not be disclosed but a copy of the comment that does contain CBI must be submitted for inclusion in the public record. FMCS may disclose information not marked confidential without prior notice. All written comments will be available for inspection in Room 704 at the Washington, DC address above from 8:30 am to 4:30 pm, Monday through Friday, excluding legal holidays.

Electronic Access and Filing

All comments and data in electronic form must be identified by the appropriate agency form number. No confidential business information (CBI) should be submitted through e-mail.

Regulatory Flexibility Act

The Director, in accordance with the Regulatory Flexibility Act (5 U.S.C. 606(b)), has reviewed this regulation and by approving it certifies that this regulation will not have a significant economic impact on a substantial number of small entities. The fees assessed by FMCS for requests for panels are nominal and should not cause any significant economic effect on small entities which may request arbitration panels..

Executive Order 12866

This regulation has been deemed significant under Section 3(f)(3) of Executive Order 12866 and as such has been submitted to and reviewed by the Office of Management and Budget.

Unfunded Mandates Reform Act of 1995

This rule will not result in the expenditure by State, local, and tribal governments, in the aggregate, or by the private sector, of $100,000,000 or more in any one year, and it will not significantly or uniquely affect small Governments. Therefore, no actions were deemed necessary under the provisions of the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in costs or prices; or significant adverse effects on competition, employment, investment, productivity, innovation, or on the ability of United States-based companies to compete with Foreign-based companies in domestic and export markets.

List of Subjects in 29 CFR Part 1404

Arbitration, Arbitration fees.

For the reasons set forth in the preamble, FMCS proposes to amend the Appendix to 29 CFR part 1404 as follows:

PART 1404—ARBITRATION SERVICES

1. The authority citation for part 1404 continues to read as follows:

Authority: 29 U.S.C. 172 and 29 U.S.C. 173 et seq.

2. Appendix to part 1404 is revised to read as follows:

Appendix to Part 1404—Arbitration Policy; Schedule of Fees

Annual listing fee for all arbitrators—$100 for the first address; $50 for the second address

Request for panel of arbitrators processed by FMCS staff—$50.00

Request for panel of arbitrators processed on-line—$30.00

Direct appointment of an arbitrator when a panel is not used—$20.00 per appointment

List and biographic sketches of arbitrators in a specific area—$25.00 per request plus $.25 per page.

John J. Toner,
Chief of Staff.

[FR Doc. 02-29481 Filed 11-22-02; 8:45 am]

BILLING CODE 6372-01-P